DEPARTMENT OF TRANSPORTATION

Federal Motor Carrier Safety Administration

[Docket No. FMCSA-2003-14652]

Commercial Driver's License (CDL) Standards; Isuzu Motors America, Inc.'s Exemption Application

AGENCY: Federal Motor Carrier Safety Administration (FMCSA), DOT.

ACTION: Notice of final disposition.

SUMMARY: FMCSA previously announced its decision to renew Isuzu Motors America, Inc.'s (Isuzu) exemption for 19 of its drivers to enable them to test-drive commercial motor vehicles (CMVs) in the United States without a commercial driver's license (CDL) issued by one of the States. Following the renewal one comment to the public docket was received. The Agency has considered the comment and continues to believe the knowledge and skills testing and training program that drivers must undergo to obtain a Japanese CDL ensures that each of these 19 drivers will achieve a level of safety that is equivalent to, or greater than, the level of safety achieved without the exemption. The Agency therefore declines to rescind or change the terms of the exemption.

DATES: This exemption is effective from June 21, 2006 through June 20, 2008.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background

Under 49 U.S.C. 31315 and 31136(e), FMCSA may grant or renew an exemption from the CDL requirements in 49 CFR 383.23 for a maximum two-year period if it finds “such exemption would likely achieve a level of safety that is equivalent to, or greater than, the level that would be achieved absent such exemption” (49 CFR 381.305 (a)). FMCSA evaluated Isuzu's application on its merits and decided to grant the renewal of the exemption for 19 of Isuzu's engineers and technicians for a two-year period, effective June 21, 2006 as previously announced in the Federal Register (71 FR 35726, June 21, 2006).

Isuzu Application for Renewal of Exemption

Isuzu applied for renewal of an exemption from the 49 CFR 383.23 requirement that the operator of a CMV obtain a CDL. This section sets forth the standards that States must employ in issuing CDLs to drivers operating in commerce. In the United States, an individual must be a resident of a State in order to qualify for a CDL; ¹ the Isuzu drivers for whom this exemption was sought are all residents of Japan. A copy of the Isuzu request for exemption from section 383.23 is in the docket identified at the beginning of this notice.

¹ Although 49 CFR 393.23 indicates that these drivers could obtain a Nonresident CDL, very few States are currently issuing Nonresident CDLs due to security concerns.

Japanese Drivers

The exemption granted in 2006 enables 19 drivers to test-drive in the United States Isuzu CMVs that are assembled, sold or primarily used in the U.S.

Collectively, these drivers form a team of mechanics, vehicle test engineers, technicians and other employees.

Comments

The Agency received one comment in response to its request for public comments on this renewal (71 FR 35726, June 21, 2006). The commenter objected to the renewal based on the Japanese drivers' potential lack of familiarity with United States highway and traffic conditions, and the operation of vehicles with steering wheels on the left side.

FMCSA Response

FMCSA does not agree with the objection. This is a renewal of a 2-year exemption. These drivers operated in the U.S. during the original exemption period, and Isuzu reported in its application for renewal that none of them received any traffic citations or was involved in any accidents from the time of the original exemption on October 16, 2003, through the date of its application for renewal.

FMCSA Decision

The FMCSA decision to grant the request to renew the exemption from section 383.23 was based on the merits of the application for exemption and the rigorous knowledge and skills testing of Japanese drivers concerning the safe operation of CMVs. All available evidence indicates that the 19 drivers covered by the exemption continue to operate as safely as they would have by complying with U.S. CDL regulations.

Unless these drivers fail to maintain the conditions specified in the June 21, 2006, decision, the exemption will remain in effect through June 20, 2008.

Issued on: March 28, 2007.
Rose A. McMurray,
Chief Safety Officer, Assistant Administrator.

[FR Doc. E7-6141 Filed 4-2-07; 8:45 am]

BILLING CODE 4910-EX-P